DEPARTMENT OF ENERGY

Federal Energy Regulatory Commission

[Project No. 516]

South Carolina Electric and Gas Company; Notice of Revised Schedule for Preparation of an Environmental Assessment

June 7, 2002.

The Federal Energy Regulatory Commission (Commission) is requiring the seismic remediation of the Saluda Dam, part of the Saluda Hydroelectric Project (FERC No. 516). The Saluda Dam impounds the 48,000-acre Lake Murray and is located in Richland, Lexington, Newberry, and Saluda counties, South Carolina. Remediation of the dam is being required to ensure public safety, pursuant to Paragraph 12.4(b)(2)(iv) of the Commission's Regulations, and will necessitate a temporary partial drawdown of Lake Murray. The drawdown will lower the reservoir approximately 5-13 feet below its normal operating level, which varies seasonally, for approximately 20 months.

On April 16, 2002, the Commission issued public notice of its intent to prepare an Environmental Assessment (EA) for the Saluda Dam Remediation Project, which will be used by the Commission to identify project impacts and to identify measures that may help mitigate the impacts caused by the project. That notice also provided notice of our scheduled scoping meetings and our intent to issue a scoping document.

On May 3, 2002, the Commission issued Scoping Document 1, which provided Commission staff's preliminary determination of the resource issues to be considered in our environmental analysis and provided our proposed schedule for preparation of the EA. Scoping meetings were held on May 17 in Columbia, South Carolina and our proposed EA preparation schedule was further discussed.

Following consultations with involved regulatory agencies, it has become apparent that in order to prevent delays in the start of the remediation work, it is now necessary to revise the schedule for preparation of the EA. The revised schedule is as follows.

Scoping Comments Due; June 17, 2002

Draft EA Issued; June 28, 2002

DEA Comments Due; July 15, 2002

Final EA Issued; July 22, 2002

Implementation of the revised schedule should ensure that public safety is adequately protected by allowing dam remediation work to proceed without delay. To provide as much opportunity as possible for comment on the Draft EA under the revised schedule, we will post the Draft EA on the Commission's Web site (http://www.ferc.gov) on June 28, 2002, in addition to distributing the Draft EA to the mailing list. We will also post on the Web site locations in the project vicinity where copies of the Draft EA will be available.

The Commission's receipt of U.S. mail is still being impacted by the events of September 11, 2001. To ensure that comments are received in a timely manner, commentors are urged to send them by alternate means. Comments may be filed electronically via the Internet in lieu of paper. See 18 CFR 385.2001(a)(1)(iii) and the instructions on the Commission's Web site (http://www.ferc.gov) under the “e-Filing” link.

Please direct any questions concerning the foregoing to John M. Mudre at (202) 219-1208.

Linwood A. Watson, Jr.,
Deputy Secretary.

[FR Doc. 02-14921 Filed 6-12-02; 8:45 am]

BILLING CODE 6717-01-P